DEPARTMENT OF THE INTERIOR

Fish and Wildlife Service

[FWS-HQ-R-2016-N088; FXRS126109HD000-167-FF09R23000]

Proposed Information Collection; Revealing Opportunities for Local-Level Stakeholder Engagement and Social Science Inquiry in Landscape Conservation Design

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: To ensure that we are able to consider your comments on this IC, we must receive them by July 18, 2016.

ADDRESSES: Send your comments on the IC to the Information Collection Clearance Officer, U.S. Fish and Wildlife Service, MS BPHC, 5275 Leesburg Pike, Falls Church, VA 22041-3803 (mail); or hope_grey@fws.gov (email). Please include “1018-Landscape Conservation Design (LCD)” in the subject line of your comments.

FOR FURTHER INFORMATION CONTACT: To request additional information about this IC, contact Hope Grey at hope_grey@fws.gov (email) or 703-358-2482 (telephone).

SUPPLEMENTARY INFORMATION:

I. Abstract

We have entered into a cooperative agreement with Cornell University to study the role of local stakeholder engagement and social data integration in Landscape Conservation Design (LCD) planning and implementation processes. Promoting ecosystem-level conservation based on LCD will rely on engaging local stakeholders—meaning local community members and locally based interest groups potentially impacted by conservation actions—in conservation design, planning, and implementation processes. To date, no systematic assessment of local stakeholders' role in LCD has been conducted. Lacking such assessment, questions remain as to what, when, and where social data (related to stakeholders' values, interests, and knowledge) and public engagement (the direct participation of stakeholders in information sharing and decisionmaking) are most valuable in LCD processes. Information gathered in this study will provide essential, non-duplicative data and insights for ongoing and future LCD efforts. In addition to literature review and participant observation, this study will employ a multiple case study approach focused on three LCD efforts. We will conduct semi-structured interviews of 90 non-Federal LCD partners and local stakeholders to ascertain how LCD efforts have attempted to integrate social information, how these efforts have worked, and how they might be improved under varying social-ecological conditions. Based on case study findings, Cornell researchers will then develop and implement a survey instrument, which will be sent to 1,000 local stakeholders within one LCD case study area. The survey will solicit information concerning (1) local stakeholders' relationships with landscapes identified for conservation, (2) stakeholders' interest in engagement during various stages of LCD, (3) stakeholder values and interests that might be represented in conservation design processes and products, and (4) local social considerations that might help facilitate the translation of LCD to publicly supported conservation plans and actions.

II. Data

OMB Control Number: 1018-XXXX.

Title: Revealing Opportunities for Local-Level Stakeholder Engagement and Social Science Inquiry in Landscape Conservation Design.

Service Form Number: None.

Type of Request: Request for a new OMB control number.

Description of Respondents: Federal, State, and municipal government representatives, and individuals.

Respondent's Obligation: Voluntary.

Frequency of Collection: One time.

Activity | Number of responses | Completion time per response (minutes) | Total annual burden hours (minutes)
Semi-structured Interviews | 90 | 70 | 105
Initial Contact for Survey | 1,000 | 5 | 83
Follow-Up Material Review for Survey | 750 | 5 | 63
Complete Survey | 600 | 20 | 200
Follow-Up Interviews with Nonrespondents | 80 | 5 | 7
TOTALS | 2,520 |  | 458

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: May 13, 2016.
Tina A. Campbell,
Chief, Division of Policy, Performance, and Management Programs, U.S. Fish and Wildlife Service.

[FR Doc. 2016-11762 Filed 5-18-16; 8:45 am]

BILLING CODE 4333-15-P